FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202) 523-5793 or tradeanalysis@fmc.gov.

Agreement No.: 012100-001.

Title: CMA CGM/CSAV Gulf Bridge Express Vessel Sharing Agreement.

Parties: CMA CGM S.A.; CMA CGM Antilles Guyane; and Compania Sud American de Vapores S.A.

Filing Party: Draughn Arbona, Esq.; Associate Counsel & Environmental Officer; CMA CGM (America) LLC; 5701 Lake Wright Drive, Norfolk, VA 23502.

Synopsis: The amendment allows the parties to increase the number and size of vessels operated under the agreement.

Agreement No.: 012118-000.

Title: CMA CGM/OOCL Victory Bridge Space Charter Agreement.

Parties: CMA CGM S.A. and Orient Overseas Container Line Limited.

Filing Party: Draughn Arbona, Esq.; Associate Counsel & Environmental Officer; CMA CGM (America) LLC; 5701 Lake Wright Drive, Norfolk, VA 23502.

Synopsis: The agreement authorizes CMA to charter space to OOCL in the trade between U.S. Atlantic and Gulf Coast ports and ports in Europe and Mexico.

Agreement No.: 201199-001.

Title: Port Fee Services Agreement.

Parties: City of Los Angeles; City of Long Beach; Port Check LLC; APM Terminals Pacific Ltd.; Eagle Marine Services, Ltd.; Long Beach Container Terminal, Inc.; Total Terminals International; California United Terminals, Inc.; International Transportation Service, Inc.; Seaside Transportation Service, LLC; West Basin Container Terminal LLC; Pacific Maritime Services, LLC; SSA Terminal (Long Beach), LLC; Trans Pacific Container Service Corporation; SSA Terminals, LLC; and Yusen Terminals, Inc.

Filing Party: David F. Smith, Esq. and Wayne R. Rohde, Esq.; Cozen O'Connor; 1627 I Street, NW, Suite 1100, Washington, DC 20006.

Synopsis: The amendment revises the ports' payment of vendor operating costs.

By Order of the Federal Maritime Commission.
Dated: February 18, 2011.
Rachel E. Dickon,
Assistant Secretary.

[FR Doc. 2011-4144 Filed 2-23-11; 8:45 am]

BILLING CODE 6730-01-P